DEPARTMENT OF THE INTERIOR

National Park Service

Denali National Park and Preserve Aircraft Overflights Advisory Council

AGENCY: National Park Service, Interior.

ACTION: Notice of Intent of Establish an Aircraft Overflights Advisory Council.

SUMMARY: This notice is published in accordance with section 9(a) of the Federal Advisory Committee Act of 1972 (5 U.S.C. Appendix). Following consultation with the General Services Administration, notice is hereby given that the Secretary of the Interior has formally established the Denali National Park and Preserve Aircraft Overflights Advisory Council to provide advice and recommendations on mitigation of impacts from aircraft overflights at Denali National Park and Preserve.

FOR FURTHER INFORMATION CONTACT: Michael J. Tranel, Denali National Park and Preserve, 240 W. 5th Avenue, Anchorage, Alaska, 99501, (907) 644-3611, Mike_Tranel@nps.gov.

SUPPLEMENTARY INFORMATION: The Denali National Park and Preserve Aircraft Overflights Advisory Council has been established in accordance with the Denali National Park and Preserve's 2006 Backcountry Management Plan and EIS. The plan concluded that air travel is an important means of access for backcountry users, and that scenic air tours are an important means for other park visitors to access and enjoy Mount McKinley and adjoining scenic peaks and glaciers. However, the cumulative impact of these tours, plus the additional aircraft traffic, must be mitigated to protect park resource values and the quality of the visitor experience. The plan calls for an aircraft overflights advisory group that will develop voluntary measures for assuring the safety of passengers, pilots, and mountaineers, and for achieving standards that represent desired future resource conditions at Denali. The National Park Service needs the advice of this group to develop effective mitigation measures that will be acceptable to stakeholders. The Council will be composed of individuals that represent a broad range of interests, including air taxi operators, commercial aviation, local landowners, the State of Alaska, the Federal Aviation Administration, climbers and other parks users, and the environmental community.

Certification: I hearby certify that the administrative establishment of the Denali National Park and Preserve Aircraft Overflights Advisory Council is necessary and in the public interest in connection with performance of duties imposed on the Department of the Interior by the Act of August 25, 1916, 16 U.S.C. 1 et seq., and other statutes relating to the administration of the National Park System.

Dated: September 4, 2007.
Dirk Kempthorne,
Secretary of the Interior.

[FR Doc. 07-5045 Filed 10-11-07; 8:45 am]

BILLING CODE 4310-PF-M